DEPARTMENT OF COMMERCE

International Trade Administration

[A-580-807]

Polyethylene Terephthalate Film, Sheet, and Strip From the Republic of Korea: Final Results of the Expedited Third Five-Year (Sunset) Review of the Antidumping Duty Order

AGENCY: Import Administration, International Trade Administration, Department of Commerce.

SUMMARY: On September 1, 2010, the Department of Commerce (the Department) initiated the third sunset review of the antidumping duty order on polyethylene terephthalate film, sheet, and strip from the Republic of Korea, pursuant to section 751(c) of the Tariff Act of 1930, as amended (the Act). The Department has conducted an expedited (120-day) sunset review pursuant to 19 CFR 351.218(e)(1)(ii)(C)(2). As a result of this sunset review, the Department finds that revocation of the antidumping duty order would be likely to lead to continuation or recurrence of dumping at the levels indicated in the “Final Results of Review” section of this notice.

FOR FURTHER INFORMATION CONTACT: Contact Tyler Weinhold or Robert James, AD/CVD Operations, Office 7, Import Administration, International Trade Administration, U.S. Department of Commerce, 14th Street and Constitution Avenue, NW., Washington, DC 20230; telephone: (202) 482-1121, or (202) 482-0649, respectively.

SUPPLEMENTARY INFORMATION

Background

On September 1, 2010, the Department initiated the third sunset review of the antidumping duty order on polyethylene terephthalate film, sheet, and strip from the Republic of Korea, pursuant to section 751(c) of the Act. See Initiation of Five-Year (“Sunset”) Review, 75 FR 53664 (September 1, 2010) (Notice of Initiation).

The Department received a notice of intent to participate from DuPont Teijin Films, Mitsubishi Polyester Film, Inc., SKC, Inc., and Toray Plastics (America), Inc. (collectively, “petitioners” or “domestic interested parties”), within the deadline specified in 19 CFR 351.218(d)(1)(i). The petitioners claimed domestic interested party status under section 771(9)(C) of the Act stating that they are producers in the United States of a domestic like product.

The Department received a response to the Notice of Initiation from the domestic interested parties on October 1, 2010, within the 30-day deadline specified in 19 CFR 351.218(d)(3)(i). On October 20, 2010, the domestic interested parties submitted a correction to their response, correcting certain inaccuracies. We received no substantive responses from respondent interested parties. We determined the response of the domestic interested parties to be an adequate substantive response in accordance with 19 CFR 351.218(d)(3). As a result, pursuant to section 751(c)(3)(B) of the Act and 19 CFR 351.218(e)(1)(ii)(C)(2), the Department conducted an expedited (120-day) sunset review of the antidumping duty order on polyethylene terephthalate film, sheet, and strip from the Republic of Korea.

Scope of the Order

Imports covered by the order are shipments of all gauges of raw, pretreated, or primed polyethylene terephthalate film, sheet, and strip, whether extruded or coextruded. The films excluded from this review are metallized films and other finished films that have had at least one of their surfaces modified by the application of a performance-enhancing resinous or inorganic layer more than 0.00001 inches (0.254 micrometers) thick.

Polyethylene terephthalate film, sheet, and strip is currently classifiable under Harmonized Tariff Schedule of the United States (HTSUS) subheading 3920.62.00. The HTSUS subheading is provided for convenience and for customs purposes. The written description remains dispositive as to the scope of the product coverage.

Analysis of Comments Received

All issues raised in this sunset review are addressed in “Issues and Decision Memorandum for the Final Results of Expedited Third Sunset Review of the Antidumping Duty Order on Polyethylene Terephthalate Film, Sheet, and Strip from the Republic of Korea” from Edward C. Yang, Acting Deputy Assistant Secretary for Antidumping and Countervailing Duty Operations, to Ronald K. Lorentzen, Deputy Assistant Secretary for Import Administration (Issues and Decision Memorandum), which is hereby adopted by, and issued concurrently with, this notice. The issues discussed in the Issues and Decision Memorandum are the likelihood of continuation or recurrence of dumping and the magnitude of the margins likely to prevail if the order was revoked. Parties can find a complete discussion of all issues raised in this review and the corresponding recommendations in this public memorandum which is on file in the Central Records Unit, room 7046 of the main Commerce Department building. In addition, a complete version of the Issues and Decision Memorandum can be accessed directly on the Web at http://ia.ita.doc.gov/frn. The paper copy and electronic version of the Issues and Decision Memorandum are identical in content.

Final Results of Review

We determine that revocation of the antidumping duty order on polyethylene terephthalate film, sheet and strip from the Republic of Korea would be likely to lead to continuation or recurrence of dumping at the following weighted-average percentage margins:

Manufacturers/Exporters/ Producers | Weighted-average margin (percent)
SKC Limited | 13.92
All Others | 21.50

These dumping margins are from the Less-Than-Fair-Value Investigation, as amended pursuant to remand in E.I. Dupont de Nemours & Co., Inc. v. United States, 954 F. Supp. 263 (CIT 1997). See Polyethylene Terephthalate Film, Sheet, and Strip From the Republic of Korea; Notice of Final Court Decision and Amended Final Determination of Antidumping Duty Investigation, 62 FR 50557 (September 26, 1997).

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: December 29, 2010.
Edward C. Yang,
Acting Deputy Assistant Secretary for Import Administration.

[FR Doc. 2011-145 Filed 1-6-11; 8:45 am]

BILLING CODE 3510-DS-P